DEPARTMENT OF HEALTH AND HUMAN SERVICES

Centers for Medicare & Medicaid Services

[CMS-8030-CN]

RIN 0938-AO23

Medicare Program; Medicare Part B Monthly Actuarial Rates, Premium Rates, and Annual Deductible for Calendar Year 2007; Correction

AGENCY: Centers for Medicare & Medicaid Services (CMS), HHS.

ACTION: Correction of notice.

SUMMARY: This document corrects a technical error in the notice that appeared in the Federal Register on September 18, 2006 entitled “Medicare Part B Monthly Actuarial Rates, Premium Rates, and Annual Deductible for Calendar Year 2007.”

Effective Date: January 1, 2007.

FOR FURTHER INFORMATION CONTACT: M. Kent Clemens, (410) 786-6391.

SUPPLEMENTARY INFORMATION:

I. Background

In FR Doc. 06-7709 of September 18, 2006 (71 FR 54665), there was a technical error in the calculation of the income-related monthly adjustment amounts. This error is identified and corrected in the Correction of Errors section below. The provisions of this correction notice are effective as if they had been included in the document that appeared in the Federal Register on September 18, 2006. Accordingly, the corrections are effective January 1, 2007.

Under section 5111 of the Deficit Reduction Act of 2005 (Pub. L. 109-171) (DRA), in 2007 beneficiaries will be responsible for 33 percent of any applicable income-related monthly adjustment to the Part B premium. In the earlier notice, we inadvertently stated that beneficiaries would only be responsible for “one-third of any applicable income-related monthly adjustment amount,” and we used a value of 33⅓ percent to calculate the income-related monthly adjustment amounts. In this notice, we are correcting the income-related adjustment amounts to reflect a value of “33 percent” as the basis for the calculation of these rates.

II. Correction of Errors

In FR Doc. 06-7709 of September 18, 2006 (71 FR 54665), make the following corrections:

1. On page 54665, in the third column, in the second paragraph, line sixteen, the term “one third” is corrected to read “33 percent.”

2. On page 54665, in the third column, in the third paragraph, line eight, following the parenthetical and comma “(standard premium),” the premium rates are corrected to read $105.80, $124.40, $142.90, and $161.40.

3. On pages 54667 and 54668, in the third column, following the fifth paragraph, in the first table following the section titled “II.A., Notice of Medicare Part B Monthly Actuarial Rates, Monthly Premium Rates, and Annual Deductible,” the amounts listed in the second row of the table are corrected to read $12.30, $105.80; third row are corrected to read $30.90, $124.40; fourth row are corrected to read $49.40, $142.90, and fifth row are corrected to read $67.90, $161.40.

4. On page 54668, in the third column, following the first paragraph, in the second table following the section titled “II.A., Notice of Medicare Part B Monthly Actuarial Rates, Monthly Premium Rates, and Annual Deductible,” the amounts listed in the second row are corrected to read $49.40, $142.90, and third row are corrected to read $67.90, $161.40.

5. On page 54669, in the third column, following the third paragraph, in the first table following the section titled “5. Premium Rates and Deductible,” the amounts listed in the second row are corrected to read $12.30, $105.80; the third row are corrected to read $30.90, $124.40; the fourth row are corrected to read $49.40, $142.90; and the fifth row are corrected to read $67.90, $161.40.

6. On pages 54669 and 54670, in the third column, in the fourth paragraph, in the second table following the section titled “5. Premium Rates and Deductible,” the amounts listed in the second row are corrected to read $49.40, $142.90; and the third row are corrected to read $67.90, $161.40.

7. On page 54672, in the third column, following the first full paragraph, in the first table following the section titled “III. Regulatory Impact Analysis,” the amounts listed in the second row are corrected to read $12.30, $105.80; the third row are corrected to read $30.90, $124.40; the fourth row are corrected to read $49.90, $142.90; and the fifth row are corrected to read $67.90, $161.40.

8. On page 54672, in the third column, following the second paragraph, in the second table, the amounts listed in the second row are corrected to read $49.40, $142.90; and the third row are corrected to read $67.90, $161.40.

9. On page 54672, in the first column, in the fourth paragraph, after the clause “The monthly impact on the beneficiaries who are required to pay a higher premium for 2007 because their income exceeds specified thresholds is * * * the amounts and text are corrected to read as follows “$12.30, $30.90, $49.40, or $67.90 which is in addition to the standard monthly premium.”

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

The Medicare statute requires the publication of the monthly actuarial rates and the Part B premium amounts in September. We ordinarily use general notices, rather than notice and comment rulemaking procedures, to make such announcements. In doing so, we note that, under the Administrative Procedure Act, interpretive rules, general statements of policy, and rules of agency organization, procedure, or practice are excepted from the requirements of notice and comment rulemaking.

This notice corrects an inadvertent error in the notice that appeared in the Federal Register on September 18, 2006, entitled “Medicare Part B Monthly Actuarial Rates, Premium Rates, and Annual Deductible for Calendar Year 2007.” In that notice, we also determined that notice and comment was unnecessary because the formulas used to calculate the Part B premium and the income-related monthly adjustment amounts are statutorily directed and we can exercise no discretion in applying those formulas. Moreover, the statute establishes the time period for which the premium rates will apply, and delaying publication of the Part B premium rate such that it would not be published before that time would be contrary to the public interest.

For the same reasons, we find good cause to waive notice and comment procedures with respect to this correction notice. In addition, this correction notice includes the changes necessary to correct a technical error in the computation of the income-related monthly adjustment amount under the statutory formula. Because these changes affect the amount of the Part B income-related monthly adjustment that will be paid by certain beneficiaries, it is in the public interest to ensure that these changes are made as soon after the publication of the original notice as possible.

(Catalog of Federal Domestic Assistance Program No. 93.773, Medicare—Hospital Insurance; and Program No. 93.774, Medicare—Supplementary Medical Insurance Program)

Dated: September 18, 2006.
Ann C. Agnew,
Executive Secretary to the Department.

[FR Doc. 06-8008 Filed 9-19-06; 8:51 am]

BILLING CODE 4120-01-P